DEPARTMENT OF TRANSPORTATION

Federal Transit Administration

[FTA Docket No. FTA-2015-0016]

Agency Information Collection Activity Under OMB Review

AGENCY: Federal Transit Administration, DOT.

ACTION: Notice of request for comments.

SUMMARY: The Federal Transit Administration invites public comment about its intention to request the Office of Management and Budget's (OMB) approval to extend the approval of the following information collection:

49 U.S.C. Section 5316—Job Access and Reverse Commute (JARC) Program

The information collected is necessary to permit an assessment of program effectiveness and ensure the proper and timely expenditure of federal funds within the scope of the program. The Federal Register notice with a 60-day comment period soliciting comments for the (JARC) Program was published on March 15, 2015 (Citation 80 FR 51). No comments were received from that notice.

DATES: Comments must be submitted before July 1, 2015. A comment to OMB is most effective if OMB receives it within 30 days of publication.

ADDRESSES: All written comments must refer to the docket number that appears at the top of this document and be submitted to the Office of Information and Regulatory Affairs, Office of Management and Budget, 725 17th Street NW., Washington, DC 20503, Attention: FTA Desk Officer.

FOR FURTHER INFORMATION CONTACT: Tia Swain, Office of Administration, Office of Management Planning, (202) 366-0354.

SUPPLEMENTARY INFORMATION: Title: Job Access and Reverse Commute Program

(OMB Number: 2132-0563)

Abstract: The Job Access and Reverse Commute (JARC) Program authorized federal funding to states for areas with a population of less than 200,000 and designated recipients in urbanized areas of 200,000 persons to address the unique transportation challenges faced by welfare recipients and low-income persons seeking to get and keep jobs. The (JARC) program has had a dramatic impact on the lives of thousands of welfare recipients and low-income families, helping individuals successfully transition from welfare to work and reach needed employment support services such as childcare and job training activities. On October 1, 2013, the (JARC) Program was repealed by Congress under the Moving Ahead for Progress in the 21st Century Act (MAP-21). However, to meet federal program oversight responsibilities, FTA must continue to collect information under the project management stage; until the period of availability expires; the funds are fully expended; the funds are rescinded by Congress; or the funds are otherwise reallocated.

Estimated Total Annual Burden: 52,080 hours.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Matthew M. Crouch,
Associate Administrator for Administration.

[FR Doc. 2015-13065 Filed 5-29-15; 8:45 am]

BILLING CODE P